Proclamation 10849 of October 31, 2024

National Diabetes Month, 2024

By the President of the United States of America

A Proclamation

Over 38 million Americans, or 1 in every 10 people, have diabetes. During National Diabetes Month, we raise awareness about this chronic condition and promote the strategies that can prevent and manage it. We recommit to making treatment more affordable and accessible. And we strengthen our resolve to find cures.

Diabetes takes a physical and financial toll on Americans nationwide, and many Americans must decide between paying for treatments and putting food on the table. Insulin—a life-saving drug for some people with diabetes—can cost Americans upwards of $300, even though it costs drug companies as little as $10 per vial to make. Some Americans end up rationing their medication, which can have serious effects on their health and well-being. While Big Pharma makes record profits, Americans pay exorbitant prices—higher than anywhere else in the world. It is unacceptable. No one should have to lie awake at night wondering if they can afford their medical bills or their insulin prescription.

Since I came into office, I have worked to ensure that health care is a right in this country, not a privilege—and that meant lowering the cost of insulin. That is why my Administration took on Big Pharma and won. I signed the Inflation Reduction Act, which capped the cost of insulin at $35 for people on Medicare. And the largest manufacturer of insulin in the United States answered my call to lower the cost to $35 per month for everyone. My Inflation Reduction Act also empowered Medicare to negotiate lower drug prices, lowering the costs of medications used to treat common diseases, including drugs that treat diabetes. Further, that law requires drug companies that raise prices faster than inflation to pay Medicare back the difference, saving seniors up to $618 per dose of medication. Moreover, beginning in 2025, the Inflation Reduction Act will cap total out-of-pocket drug costs at $2,000 per year for people on Medicare. There is still more to do, but this will help ensure Americans—including those with diabetes—have the dignity, security, and peace of mind they deserve.

My Administration is also working to drive new breakthroughs in preventing, detecting, and treating diabetes while ensuring that Americans have the resources they need to lead healthy lifestyles. I secured $4 billion for the Advanced Research Projects Agency for Health to make strides in transforming the prevention, detection, and treatment of deadly diseases like diabetes. We have seen enormous research advances in recent years to develop promising new diabetes drugs, including the first cell therapy for adults with Type 1 diabetes and the first new oral medication for children with Type 2 diabetes in decades. At the same time, we recognize that the impact of Type 2 diabetes can be greatly decreased through improvements in nutrition and physical activity. My Administration announced new standards for school meals to improve their nutritional value and give schools the option to require locally produced, unprocessed menu ingredients. We also held the first White House Conference on Hunger, Nutrition, and Health in over 50 years, bringing together advocates, health care providers, food companies, and officials from every level of government. As a part of that conference, we launched the White House Challenge to End Hunger and Build Healthy Communities. In total, we have secured more than $10 billion in bold, new commitments from the public and private sectors to end hunger and reduce diet-related diseases like diabetes.

My Administration also recognizes that tens of millions of Americans have prediabetes and are at risk of developing Type 2 diabetes within 5 years. Diabetes increases one's risk of heart attack, cancer, stroke, blindness, kidney failure, and the loss of toes, feet, or legs. Many of these cases are preventable, and the risk factors are often related to poor nutrition and inadequate physical activity. To learn more about the risks and how to address prediabetes and help prevent Type 2 diabetes, visit the Centers for Disease Control and Prevention National Diabetes Prevention Program: cdc.gov/diabetes-prevention.

During National Diabetes Month, we celebrate the resilience and courage of all those affected by diabetes. We thank the dedicated medical professionals, loved ones, and advocates who support this community. And we recommit to working around the clock to improve care for those affected and get us closer to finding cures.

NOW, THEREFORE, I, JOSEPH R. BIDEN JR., President of the United States of America, by virtue of the authority vested in me by the Constitution and the laws of the United States, do hereby proclaim November 2024 as National Diabetes Month. I call upon all Americans, school systems, government agencies, nonprofit organizations, health care providers, research institutions, and other interested groups to join in activities that raise diabetes awareness and help prevent, treat, and manage this disease.

IN WITNESS WHEREOF, I have hereunto set my hand this thirty-first day of October, in the year of our Lord two thousand twenty-four, and of the Independence of the United States of America the two hundred and forty-ninth.

[FR Doc. 2024-25804

Filed 11-4-24; 8:45 am]

Billing code 3395-F4-P